DEPARTMENT OF AGRICULTURE

Rural Utilities Service

Rural Telephone Bank; Notice Under the Rural Electrification Act's “Buy American” Provision

AGENCY: Rural Utilities Service and Rural Telephone Bank, USDA.

ACTION: Notice of the “Buy American” status of certain countries under the Rural Electrification Act.

SUMMARY: The Rural Utilities Service (RUS) published notice in the Federal Register for February 18, 1997, at 62 FR 7205 that the Uruguay Round Agreements Act, (108 Stat. 4954, Pub. L. 103-465, December 8, 1994), amended the “Buy American” provision, (7 U.S.C. 903 note) of the Rural Electrification Act of 1936, as amended (7 U.S.C. 901 et seq.,) (the “RE Act”). Under the amendment, the United States Trade Representative (USTR) is authorized to determine which countries (“eligible countries”) are eligible to have their products receive the same treatment as manufactured and unmanufactured products produced in the United States. This notice lists the current eligible countries for RUS electric and telecommunications programs, respectively. Please refer to the Federal Register notice published February 18, 1997, at 62 FR 7205, for additional information on RUS Buy American requirements.

FOR FURTHER INFORMATION CONTACT: For electric program matters: George Bagnall, Director, Electric Staff Division, RUS, U.S. Department of Agriculture, STOP 1569, 1400 Independence Ave., SW., Washington, DC 20250-1569. Telephone number (202) 720-1900, fax (202) 720-7491. For telecommunications program matters: Gerald Nugent, Director, Telecommunications Standards Division, RUS, U.S. Department of Agriculture, STOP 1598, 1400 Independence Ave., SW., Washington, DC 20250-1598. Telephone number (202) 720-8663, fax (202) 720-4099.

SUPPLEMENTARY INFORMATION: For telecommunications program borrowers: Eligible countries are Canada, Israel, and Mexico.

For electric program borrowers: Eligible countries are Aruba, Austria, Belgium, Canada, Denmark, Finland, France, Germany, Greece, Hong Kong China, Iceland, Ireland, Israel, Italy, Japan, Korea, Liechtenstein, Luxembourg, Mexico, Netherlands, Norway, Portugal, Singapore, Spain, Sweden, Switzerland, and the United Kingdom.

For electric and telecommunications borrowers: Eligibility of contracts with certain countries may be limited by contract amount or other restrictions. Contact RUS for additional information.

The USTR may at any time declare one or more additional countries to be “eligible countries” for either electric or telecommunications borrowers. The Chair of Technical Standards Committee “A” (Electric) will be the point of contact for RUS with respect to USTR determinations of eligible countries. Each RUS borrower is responsible for assuring that its procurement complies with the requirements of the RE Act “Buy American” provision.

Dated: November 8, 2001.
Hilda Gay Legg,
Administrator, Rural Utilities Service and Governor, Rural Telephone Bank.

[FR Doc. 01-28748 Filed 11-15-01; 8:45 am]

BILLING CODE 3410-15-P